ENVIRONMENTAL PROTECTION AGENCY

[EPA-HQ-OAR-2008-0015; FRL-8516-2]

Workshop To Discuss Policy-Relevant Science To Inform EPA's Integrated Plan for the Review of the Primary Carbon Monoxide National Ambient Air Quality Standards (NAAQS)

AGENCY: Environmental Protection Agency (EPA).

ACTION: Notice of Workshop.

SUMMARY: The EPA is announcing that a workshop entitled “Workshop to Discuss Policy-Relevant Science to Inform EPA's Integrated Plan for the Review of the Primary Carbon Monoxide National Ambient Air Quality Standards” is being organized by EPA's National Center for Environmental Assessment (NCEA), Office of Research and Development and EPA's Office of Air Quality Planning and Standards (OAQPS), Office of Air and Radiation. The workshop will be held on January 28-29, 2008 in Research Triangle Park, North Carolina. The workshop will be open to attendance by interested public observers on a first-come, first-served basis up to the limits of available space.

DATES: The workshop will be held on January 28 and 29, 2008.

ADDRESSES: The workshop will be held at U.S. EPA, 109 T.W. Alexander Drive, Research Triangle Park, North Carolina. An EPA contractor, E.H. Pechan & Associates, Inc., is providing logistical support for the workshop. For further information on the workshops, contact Ms. Barbara Bauer, E.H. Pechan Conference Coordinator, 3622 Lyckan Parkway, Durham, NC 27707, telephone: 919-493-3144 ext. 188; facsimile: 919-493-3182; e-mail: barbara.bauer@pechan.com.

FOR FURTHER INFORMATION CONTACT: Questions regarding information, registration, and logistics for the workshop should be directed to the E.H. Pechan conference coordinator listed in ADDRESSES above or from the following Web site: http://projects.pechan.com/epa/coreview/.

Additional questions regarding the workshop should be directed to Ms. Chris Trent, U.S. EPA, OAQPS, telephone: 919-541-5337; facsimile: 919-541-0237; e-mail: trent.chris@epa.gov or Dr. Tom Long, U.S. EPA, NCEA, telephone: 919-541-1880; facsimile: 919-541-2985; e-mail: long.tom@epa.gov.

SUPPLEMENTARY INFORMATION:

I. Information About the Workshop

The Agency's last review of the carbon monoxide (CO) national ambient air quality standards (NAAQS) was completed on August 1, 1994 with a final determination that no revision of the CO standard was appropriate (59 FR 38906). This review of the CO NAAQS is consistent with the Clean Air Act's requirement that the Agency periodically review the latest scientific information and the standards. In completing this review, the Agency will apply the Agency's new NAAQS review process.¹ This workshop is a key step in this new process. The workshop will provide an opportunity for internal and external experts to highlight significant new and emerging CO research, and to make recommendations to the Agency regarding the design and scope of the review for the primary (health-based) CO standard to ensure that it addresses key policy-relevant issues and considers the new science relevant to informing our understanding of these issues.²

¹ For more information on the NAAQS review process, please see http://www.epa.gov/ttn/naaqs/.

² This workshop will not address a secondary welfare-based standard as the CO NAAQS includes only a primary standard.

We intend that workshop discussions will build upon three prior publications or events:

1. National Ambient Air Quality Standards for Carbon Monoxide: Final Rule (59 FR 38906, August 1, 1994). The preamble to the final rule included detailed discussions of policy-relevant issues central to the last review.

2. Air Quality Criteria for Carbon Monoxide (EPA 600/P-99/001F, June 2000).³

³ Please see http://www.epa.gov/ttn/naaqs/standards/co/s_co_index.html to obtain a copy of the 2000 Air Quality Criteria Document, the notice of final rulemaking from 1994, and other related documents.

3. December 2006 workshop sponsored by NCEA, entitled “Interpretation of Epidemiologic Studies of Multi-pollutant Exposure and Health Effects.” The workshop dealt with important issues relevant to this review, such as the interpretation and understanding of criteria air pollutant health effects analyses in population-level epidemiologic studies, with a focus on multi-pollutant exposures (71 FR 67566, November 22, 2006).

Workshop participants are encouraged to review each of these documents and/or supporting materials thoroughly before the meeting begins, as they provide important insights into new scientific advances and key policy-relevant questions.

Based in large part on the input received during this workshop, EPA will develop a draft integrated CO NAAQS review plan that will outline the schedule, process, and approaches for evaluating the relevant scientific information and addressing the key policy-relevant issues to be considered in this review. The Clean Air Scientific Advisory Committee (CASAC) will be asked to conduct a consultation with the Agency on the draft integrated plan later this year, and the public will have the opportunity to comment on it as well. The final integrated plan will be used to frame each of the major elements of the CO review under the new NAAQS process: an integrated science assessment document, a risk/exposure assessment report, and a policy assessment to be published as an advance notice of proposed rulemaking (ANPR).

II. Workshop Information

Members of the public may attend the workshop as observers. Space is limited, and reservations will be accepted on a first-come, first-served basis.

Dated: January 8, 2008.
Jenny N. Edmonds,
Acting Director, Office of Air Quality Planning and Standards.

[FR Doc. E8-543 Filed 1-14-08; 8:45 am]

BILLING CODE 6560-50-P